DEPARTMENT OF THE TREASURY

Internal Revenue Service

26 CFR Part 1

[REG-208246-90]

RIN 1545-BD47

Allocation and Apportionment of Deductions for Charitable Contributions; Hearing Cancellation

AGENCY: Internal Revenue Service (IRS), Treasury.

ACTION: Cancellation of notice of public hearing on proposed rulemaking.

SUMMARY: This document provides notice of cancellation of a public hearing on proposed regulations relating to the allocation and apportionment of charitable deductions.

DATES: The public hearing originally scheduled for Thursday, December 2, 2004, at 10 a.m., is cancelled.

FOR FURTHER INFORMATION CONTACT: Treena Garrett of the Publications and Regulations Branch, Associate Chief Counsel (Procedure and Administration) (202) 622-7180 (not a toll-free number).

SUPPLEMENTARY INFORMATION: A notice of proposed rulemaking and notice of public hearing that appeared in the Federal Register on Wednesday, July 28, 2004, (69 FR 44988), announced that a public hearing was scheduled for Thursday, December 2, 2004, at 10 a.m. in the IRS Auditorium, Internal Revenue Service Building, 1111 Constitution Avenue, NW., Washington, DC. The subject of the public hearing is proposed regulations under section 861 of the Internal Revenue Code. The public comment period for these proposed regulations expired on Tuesday, October 26, 2004. Outlines of oral comments were due on Tuesday, November 12, 2004.

The notice of proposed rulemaking and notice of public hearing, instructed those interested in testifying at the public hearing to submit a request to speak and an outline of the topics to be addressed. As of Wednesday, November 17, 2004, no one has requested to speak. Therefore, the public hearing scheduled for Tuesday, December 2, 2004, is cancelled.

Cynthia E. Grigsby,
Acting Chief, Publications and Regulations Branch, Legal Processing Division, Associate Chief Counsel, (Procedure and Administration).

[FR Doc. 04-25964 Filed 11-22-04; 8:45 am]

BILLING CODE 4830-01-P